COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add a product and services to the Procurement List that will be furnished by nonprofit agencies employing persons who are blind or have other severe disabilities.

Comments Must Be Received on or Before: 12/10/2012.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN: 5180-01-435-3502—Tool Kit, Multipurpose Plier

NPA: The Lighthouse for the Blind, St. Louis, MO

Contracting Activity: General Services Administration, Tools Acquisition Division I, Kansas City, Mo.

Coverage: B-List for the Broad Government Requirement as aggregated by the General Services Administration.

Services

Service Type/Location: Custodial and Grounds Maintenance Services, Rocky Mountain Metropolitan Airport (RMMA), Air Traffic Control Tower (ATCT) & Base Building, 11001 Control Tower Drive, Westminster, CO.

NPA: AspenPointe Employment, Colorado Springs, CO.

Contracting Activity: Dept of Transportation, Federal Aviation Administration, Renton, WA

Service Type/Location: Mess Attendant Services and Cook Support, Eielson AFB, AK.

NPA: Lakeview Center, Inc., Pensacola, FL.

Contracting Activity: Department of the Air Force (5700)/Eielson Air Force Base (FA 5004), Eielson AFB, AK.

The information is provided to further describe the Mess Attendant Services and Cook Support being proposed for addition to the Procurement List. For this project, the DOD contracting activity identified its requirement as Mess Attendants Service and Cook Support. The Mess Attendant and Cook Support tasks are: (1) Serving and replenishing food; (2) Cleaning facilities, equipment, pots, pans, and utensils; (3) Cleaning tables in the Dining Area; (4) Preparing vegetables and fruits for the salad bar and to be cooked; (5) Preparing hot and cold sandwiches; (6) Providing cashier services; (7) Maintaining quality control; and (8) Providing maintenance and housekeeping services for the facility.

Patricia Briscoe,
Deputy Director, Business Operations, (Pricing and Information Management).

[FR Doc. 2012-27374 Filed 11-8-12; 8:45 am]

BILLING CODE 6353-01-P